DEPARTMENT OF THE INTERIOR

Bureau of Land Management

[LLNMF01000-L51010000-ER0000-LVRWG10G0760; NMNM122352]

Notice of Intent to Prepare an Environmental Impact Statement for the Proposed San Juan Basin Energy Connect Project, San Juan County, New Mexico, and La Plata County, Colorado

AGENCY: Bureau of Land Management, Interior.

ACTION: Notice of intent.

SUMMARY: In compliance with the National Environmental Policy Act of 1969 (NEPA), as amended, and the Federal Land Policy and Management Act of 1976, as amended, the Bureau of Land Management (BLM) Farmington Field Office, Farmington, New Mexico, intends to prepare an Environmental Impact Statement (EIS) on the proposed San Juan Energy Connect Project, and by this notice is announcing the beginning of the scoping process to solicit public comments and identify issues.

DATES: This notice initiates the public scoping process for the EIS. Comments must be received in writing by the BLM on or before March 11, 2011. The date(s) and location(s) of any scoping meetings will be announced at least 15 days in advance through local media, newspapers and the BLM Web site at: http://www.blm.gov/nm/farmington. In order to be included in the Draft EIS, all comments must be received prior to the close of the scoping period or 15 days after the last public meeting, whichever is later. The BLM will provide additional opportunities for public participation upon publication of the Draft EIS.

ADDRESSES: You may submit comments related to the San Juan Basin Energy Connect Project by any of the following methods:

• Web site: http://www.sjbenergyconnect.com;

• E-mail: info@sjbenergyconnect.com; or

• Mail: Bureau of Land Management, Farmington Field Office, Attention: San Juan Basin Energy Connect Project Manager, 1235 La Plata Highway Suite A, Farmington, New Mexico 87401.

FOR FURTHER INFORMATION CONTACT: For further information and/or to have your name added to the mailing list, contact Marcy Romero, Project Manager, telephone 505-599-6339; address 1235 La Plata Highway Suite A, Farmington, New Mexico 87401; e-mail marcella_romero@blm.gov.

SUPPLEMENTARY INFORMATION: The applicant, Tri-State has requested a right-of-way (ROW) authorization to construct, operate, and maintain a 230 kilovolt (kV) transmission line from the Farmington, New Mexico area to Ignacio, Colorado. The San Juan Basin Energy Connect Project is generally located between Townships 30 and 33 North, Ranges 16 through 7 West, New Mexico Principal Meridian, San Juan County, New Mexico, and La Plata County, Colorado. The project area extends from within 1 mile of Farmington, New Mexico, and within 3 miles of the Navajo Nation, to within 5 miles of Durango, Colorado. The project area covers approximately 174,096 acres of mixed Federal, State, Tribal and private lands. The BLM Farmington Field Office and Bureau of Indian Affairs manage the Federal lands in the project area.

The proposed project would entail the expansion of the existing Shiprock Substation to accommodate the new 230 kV line termination and installation of additional 345/230 kV transformation equipment. The construction involves approximately 35-40 miles of new double-circuit 230 kV transmission line from the existing Shiprock Substation to the proposed Kiffen Canyon Substation near the City of Farmington's Glade Switching Station. It is proposed that approximately 45-50 miles of new double and single-circuit 230 kV transmission line would be constructed between the proposed Kiffen Canyon Substation and the proposed Iron Horse Substation near Ignacio, Colorado. In addition to transmission facilities, traditional vehicle access to these new electrical facilities would be needed. New access would be minimized by using existing access whenever possible. The BLM Farmington Field Office will serve as the lead agency for the NEPA analysis process and preparation of the EIS. Cooperating agencies identified at this time include the Bureau of Indian Affairs, Southern Ute Indian Tribe, Rural Utilities Service, and Western Area Power Administration. The proposed action is in conformance with the Farmington Resource Management Plan and Record of Decision dated December 2003. The purpose of the public scoping process is to determine relevant issues that will influence the scope of the environmental analysis, including alternatives, and guide the process for developing the EIS. The EIS for the San Juan Basin Energy Connect Project will analyze the environmental consequences of implementing the proposed action and alternatives to the proposed action, including a No Action Alternative. The BLM encourages the public to send comments concerning the project as proposed; other feasible alternative locations; possible mitigation measures; and any other information relevant to the proposed action. Other alternatives that may be considered in detail include additional alignments.

The BLM initiated scoping for this project in public meetings held in Farmington, New Mexico, and Ignacio, Colorado, on October 7 and 8, 2009, respectively. Public input suggested that an EIS level analysis would be more appropriate than the proposed Environmental Assessment (EA). At that time, the proposed action was discussed as being a combination of 48 corridors identified by a Macro Corridor Study, completed prior to the initiation of the NEPA process. Public notices and direct mailings were used to inform those potentially affected or interested in the proposal and information was also available on the project Web site (http://www.SJBEnergyConnect.com). In addition to accepting comments at the workshops, BLM invited interested individuals to submit their comments using the project Web site, e-mail, U.S. Postal Service, a dedicated 1-800 hotline, or fax.

Scoping for the EA yielded 232 separate comments from 91 individuals. In addition to highlighting the need to develop an EIS, scoping identified key preliminary issues that will be used in the development and analysis of the alternatives. These issues include:

• Proximity of the transmission line to residences;

• Land use;

• Impacts to visual resources;

• Health and safety concerns; and

• Impacts related to noise.

The BLM will provide additional opportunities for public participation through scoping meetings and the opportunity to submit comments during the scoping period. The BLM will use and coordinate the NEPA comment process to satisfy the public involvement process for Section 106 of the National Historic Preservation Act (16 U.S.C. 470(f)) as provided for in 36 CFR 800.2(d)(3). Native American Tribal consultations will be conducted in accordance with policy and Tribal concerns will be given due consideration, including impacts on Indian trust assets. Federal, State, and local agencies, along with other stakeholders that may be interested or affected by the BLM's decision on this project are invited to participate in the scoping process and, if eligible, may request or be requested by the BLM to participate as a cooperating agency.

Before including your address, phone number, e-mail address, or other personal identifying information in your comment, you should be aware that your entire comment -including your personal identifying information-may be made publicly available at any time. While you can ask us in your comment to withhold your personal identifying information from public review, we cannot guarantee that we will be able to do so.

Authority: 40 CFR 1501.7.

Linda S.C. Rundell,
State Director.

[FR Doc. 2011-1453 Filed 1-24-11; 8:45 am]

BILLING CODE 4310-VB-P